OFFICE OF MANAGEMENT AND BUDGET

OMB Sequestration Update Report to the President and Congress for Fiscal Year 2016

AGENCY: Executive Office of the President, Office of Management and Budget.

ACTION: Notice of availability of the OMB Sequestration Update Report to the President and Congress for FY 2016.

SUMMARY: OMB is issuing the OMB Sequestration Update Report to the President and Congress for Fiscal Year 2016 to report on the status of the discretionary caps and on the compliance of pending discretionary appropriations legislation with those caps. For fiscal year 2015, the report finds enacted appropriations to be within the spending limits. For fiscal year 2016, the report finds that if the current limits remain unchanged, under OMB's estimates of actions to date by both the House of Representatives and Senate for the 12 annual appropriations bills would result in a sequestration of approximately $3 million and $1 million, respectively, in discretionary programs in the defense category. The report also finds that fiscal year 2016 actions by the House of Representatives for the non-defense category would result in a sequestration of nearly $1.8 billion while OMB's estimate of actions by the Senate for the non-defense category are in compliance with the current spending limit. Finally, the report also contains OMB's Preview Estimate of the Disaster Relief Funding Adjustment for FY 2016.

DATES: Effective Date: August 20, 2015. Section 254 of the Balanced Budget and Emergency Deficit Control Act of 1985 requires the Office of Management and Budget (OMB) to issue a Sequestration Update Report on August 20th of each year. With regard to this update report and to each of the three required sequestration reports, section 254(b) specifically states the following:

SUBMISSION AND AVAILABILITY OF REPORTS.—Each report required by this section shall be submitted, in the case of CBO, to the House of Representatives, the Senate and OMB and, in the case of OMB, to the House of Representatives, the Senate, and the President on the day it is issued. On the following day a notice of the report shall be printed in the Federal Register.

ADDRESSES: The OMB Sequestration Reports to the President and Congress is available on-line on the OMB home page at: http://www.whitehouse.gov/omb/legislative_reports/sequestration.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

Shaun Donovan,
Director.

[FR Doc. 2015-20982 Filed 8-24-15; 8:45 am]

BILLING CODE P